DEPARTMENT OF LABOR

Employment and Training Administration

[NAFTA-4202]

Samsonite Corporation, Tucson, AZ; Amended Notice of Revised Determination on Reconsideration

In accordance with section 250(a), subchapter D, chapter 2, title II, of the Trade Act of 1974, as amended (19 USC 2273), the Department of Labor issued a Notice of Revised Determination on Reconsideration regarding eligibility to apply for NAFTA Transitional Adjustment Assistance, on December 8, 2000, applicable to workers of Samsonite Corporation, Tucson, Arizona. The notice will soon be published in the Federal Register.

At the request of the State agency, the Department reviewed the decision for workers of the subject firm. The State pointed out that workers of the subject firm were covered under a previous certification, NAFTA-2263, which expired on April 20, 2000. Based on this information, to avoid overlap in worker coverage, the Department is amending the September 29, 1999, impact date set in the revised determination for NAFTA-4202, to April 21, 2000.

The amended notice applicable to NAFTA-4202 is hereby issued as follows:

All workers of Samsonite Corporation, Tucson, Arizona, who became totally or partially separated from employment on or after April 21, 2000, through December 8, 2002, are eligible to apply for NAFTA-TAA under Section 250 of the Trade Act of 1974.

Signed in Washington, DC this 15th day of December 2000.
Linda G. Poole,
Certifying Officer, Division of Trade Adjustment Assistance.

[FR Doc. 00-33069 Filed 12-27-00; 8:45 am]

BILLING CODE 4510-30-M